FEDERAL MARITIME COMMISSION

[Docket No. 24-19]

Peloton Interactive, Inc., Complainant v. Flexport International LLC, Respondent; Served: May 8, 2024; Notice of Filing of Complaint and Assignment

Notice is given that a complaint has been filed with the Federal Maritime Commission (the “Commission”) by Peloton Interactive, Inc. (the “Complainant”) against Flexport International LLC (the “Respondent”). Complainant states that the Commission has subject matter jurisdiction over the complaint pursuant to the Shipping Act of 1984, as amended, 46 U.S.C. 40101 et seq. and personal jurisdiction over the Respondent as a non-vessel-operating common carrier, as defined in 46 U.S.C. 40102(17).

Complainant is a Delaware corporation with its corporate headquarters in New York, New York.

Complainant identifies Respondent as an entity organized under the laws of the state of Delaware with a principal place of business in San Fransisco, California.

Complainant alleges that Respondent violated 46 U.S.C. 41102(c), 41104(a)(14), and 41104(a)(15) and 46 CFR 545.4 and 545.5. Complainant alleges these violations arose from a failure to properly perform and a delay in performance of inland transportation obligations on store door shipments, and other acts and omissions of the Respondent, that resulted in damages, such as unreasonable costs, demurrage and detention charges, and delay.

An answer to the complaint must be filed with the Commission within 25 days after the date of service.

The full text of the complaint can be found in the Commission's electronic Reading Room at https://www2.fmc.gov/readingroom/proceeding/24-19/. This proceeding has been assigned to the Office of Administrative Law Judges. The initial decision of the presiding judge shall be issued by May 8, 2025, and the final decision of the Commission shall be issued by November 24, 2025.

David Eng,
Secretary.

[FR Doc. 2024-10433 Filed 5-13-24; 8:45 am]

BILLING CODE 6730-02-P